ENVIRONMENTAL PROTECTION AGENCY

[FRL-9996-51-OA]

Children's Health Protection Advisory Committee

AGENCY: Environmental Protection Agency (EPA).

ACTION: Request for Nominations to the Children's Health Protection Advisory Committee.

SUMMARY: The U.S. Environmental Protection Agency (EPA) invites nominations from a range of qualified candidates for consideration for appointment to its Children's Health Protection Advisory Committee (CHPAC). The EPA anticipates filling vacancies by January 1, 2020. The EPA may also use sources in addition to this Federal Register Notice to solicit nominees.

DATES: Submit nominations by October 11, 2019 by email to EPA_CHPAC@icfi.com or mail to Nica Louie, Designated Federal Officer, Office of Children's Health Protection, U.S. Environmental Protection Agency, Mail Code 1107T, 1301 Constitution Avenue NW, Washington, DC, 20460.

FOR FURTHER INFORMATION CONTACT: Nica Louie, Designated Federal Officer, U.S. EPA; telephone (202) 564-7633 or Louie.nica@epa.gov.

SUPPLEMENTARY INFORMATION: Background: The Children's Health Protection Advisory Committee is chartered under the Federal Advisory Committee Act (FACA), Public Law 92-463. EPA established this Committee in 1997 to provide independent advice to the EPA Administrator on a broad range of environmental issues affecting children's health.

The EPA Administrator appoints members for three-year terms with a cap on service at six years. The Committee meets 2-3 times annually and the average workload is approximately 10 to 15 hours per month. EPA provides reimbursement for travel and other incidental expenses associated with official government business, but members must be able to cover expenses prior to reimbursement.

The CHPAC is looking for representatives from industry; tribal, state, county and local government; school systems; academia; health care providers (including pediatricians, obstetric professionals, occupational medicine practitioners and community nurses); and non-governmental organizations.

The types of experience necessary includes children's environmental health and development; epidemiology and toxicology; role of environmental chemicals in childhood diseases such as asthma, obesity and ADHD; prenatal environmental exposures and adverse health outcomes; specific environmental exposures to chemicals such as lead, mercury and other heavy metals that adversely impact children's health; tribal children's environmental health; children's environmental health disparities; research; air quality (indoor and outdoor); water quality; EPA regulation development; risk assessment; exposure assessment; science policy; public health information tracking; and outreach and risk communication.

—The background and experience that would contribute to the diversity of perspectives on the committee (e.g., geographic, economic, social, cultural, racial, ethnicity, educational, and other considerations).

—Ability to volunteer time to attend meetings 2-3 times a year in Washington DC, participate in teleconference meetings, develop recommendations to the Administrator, and prepare reports and advice letters.

Nominations must include:

• Brief statement describing the nominee's interest in serving on the CHPAC.

• Short biography (no more than one page) describing the professional and educational qualifications, including a list of relevant activities, and any current or previous service on federal advisory committees.

• Statement about the perspective the nominee brings to the committee.

• Current contact information for the nominee, including name, organization (and position within that organization), business address, email address, and telephone number.

• Candidates may self-nominate; one letter of support is welcome.

Dated: July 2, 2019.
Nica Louie,
Designated Federal Officer.

[FR Doc. 2019-19658 Filed 9-10-19; 8:45 am]

BILLING CODE 6560-50-P